DEPARTMENT OF COMMERCE

International Trade Administration

[A-570-830]

Coumarin From the People's Republic of China; Final Results of Expedited Sunset Review

AGENCY: Import Administration, International Trade Administration, Department of Commerce.

ACTION: Notice of final results of expedited sunset review.

SUMMARY: On December 30, 1999, the Department of Commerce published the notice of initiation of sunset review of the antidumping duty order on coumarin from the People's Republic of China (“China”). On the basis of a notice of intent to participate and an adequate substantive response from domestic interested parties and inadequate response (in this case no response) from respondent interested parties, we determined to conduct an expedited sunset review. Based on our analysis of the substantive comments received, we find that revocation of the antidumping duty order would be likely to lead to continuation or recurrence of dumping at the levels listed below in the section entitled “Final Results of the Review.”

EFFECTIVE DATE: May 4, 2000.

FOR FURTHER INFORMATION CONTACT: Martha V. Douthit or Carole A. Showers, Office of Policy, Import Administration, International Trade Administration, U.S. Department of Commerce, 14th Street and Constitution Avenue, NW, Washington, DC 20230; telephone: (202) 482-5050 and (202) 482-3217, respectively.

SUPPLEMENTARY INFORMATION:

Statute and Regulations

Unless otherwise indicated, all citations to the Tariff Act of 1930, as amended (“the Act”), are references to the provisions effective January 1, 1995, the effective date of the amendments made to the Act by the Uruguay Round Agreements Act (“URAA”). In addition, unless otherwise indicated, all citations to the Department of Commerce's (“the Department's”) regulations are to 19 CFR part 351 (1999). Guidance on methodological or analytical issues relevant to the Department's conduct of sunset reviews is set forth in the Department Policy Bulletin 98:3—Policies Regarding the Conduct of Five-year (“Sunset”) Reviews of Antidumping and Countervailing Duty Orders; Policy Bulletin, 63 FR 18871 (April 16, 1998) (“Sunset Policy Bulletin”).

Background

On December 30, 1999, the Department published the notice of initiation of the sunset review of the antidumping duty order on coumarin from China (64 FR 73510) pursuant to section 751(c) of the Act. We invited parties to comment. On the basis of a notice of intent to participate and adequate substantive response of domestic interested parties, inadequate response (in this case no response) from respondent interested parties, we determined it was appropriate to conduct an expedited sunset review. The Department has conducted this sunset review in accordance with sections 751 and 752 of the Act.

Scope of Review

The product covered by this order is coumarin from China. Coumarin is an aroma chemical with the chemical formula C9 H6 O2 that is also known by other names, including 2H-1-benzopyran-2-one,1,2-benzopyrone, cis-o-coumaric acid lactone, coumarin anhydride, 2-Oxo-1,2-benzopyran, 5,6-benzo-alpha-pyrone, ortho-hydroxyc innamic acid lactone, cis-ortho-coumaric acid anhydride, and tonka bean camphor. All forms and variations of coumarin are included within the scope of the order, such as coumarin in crystal, flake, or powder form, and “crude” or unrefined coumarin (i.e. prior to purification or crystallization). Excluded from the scope of this order are ethylcoumarins C11 H10 O2 and methylcoumarins C10 H8 O2. Coumarin is classifiable under subheading 2932.21.0000 of the Harmonized Tariff Schedule of the United States (“HTSUS”). Although the HTSUS subheading is provided for convenience and customs purposes, our written description of the scope of this review is dispositive.

The antidumping duty order remains in effect for all manufacturers, producers, and exporters of coumarin from China.

Analysis of Comments Received

All issues raised in the substantive responses by parties to this sunset review are addressed in the “Issues and Decision Memorandum” (“Decision Memo”) from Jeffrey A. May, Director, Office of Policy, Import Administration, to Troy H. Cribb, Acting Assistant Secretary for Import Administration, dated April 28, 2000, which is hereby adopted in this notice. The issues discussed in the attached Decision Memo include the likelihood of continuation or recurrence of dumping and the magnitude of the margin likely to prevail were the order revoked. Parties can find a complete discussion of all issues raised in this review and the corresponding recommendations in this public memorandum, which is on file in the Department's Central Record Unit, Room B-099, 14th Street and Constitution Ave., NW, Washington, DC 20230.

In addition, a complete version of the Decision Memo can be accessed directly on the Web at www.ita.doc.gov/import—admin/records/frn. The paper copy and electronic version of the Decision Memo are identical in content.

Final Results of Review

We determine that revocation of the antidumping duty order would be likely to lead to continuation or recurrence of dumping at the following percentage weighted-average margins:

Manufacturer/producer/exporter | Margin (percent)
Jiangsu Native Produce Import/Export Corporation | 31.02
Tiangin Native Produce Import/Export Corporation | 70.45
All Others | 160.80

This notice also serves as the only reminder to parties subject to administrative protective orders (“APO”) of their responsibility concerning the return or destruction of proprietary information disclosed under APO in accordance with 19 CFR 351.305 of the Department's regulations. Timely notification of the return or destruction of APO materials or conversion to judicial protective order is hereby requested. Failure to comply with the regulations and terms of an APO is a violation which is subject to sanction.

We are issuing and publishing this determination and notice in accordance with sections 751(c), 752, and 777(i)(1) of the Act.

Dated: April 28, 2000.
Troy H. Cribb,
Acting Assistant Secretary for Import Administration.

[FR Doc. 00-11169 Filed 5-3-00; 8:45 am]

BILLING CODE 3510-DS-P